DEPARTMENT OF VETERANS AFFAIRS

Notice of Intent To Grant An Exclusive License

AGENCY: Office of Research and Development, Department of Veterans Affairs.

ACTION: Notice of intent.

SUMMARY: Notice is hereby given that the Department of Veterans Affairs, Office of Research and Development, intends to grant to New England Compounding Pharmacy, Inc., 697 Waverly Street, Framingham, MA 01701 an exclusive license to practice U.S. Patent No. 6,569,615 issued, May 27, 2003, entitled, “Compositions and Methods for Tissue Preservation.”

DATES: Comments must be received by April 11, 2006.

ADDRESSES: Send comments to: Amy E. Centanni, Director of Technology Transfer, Department of Veterans Affairs; Office of Research and Development Attn: 12TT; 810 Vermont Avenue, NW., Washington, DC 20420. Telephone: (202) 254-0199; Facsimile: (202) 254-0473; e-mail: amy.centanni@mail.va.gov.

FOR FURTHER INFORMATION CONTACT: Copies of the published patent may be obtained from the U.S. Patent and Trademark Office at http://www.uspto.gov.

SUPPLEMENTARY INFORMATION: It is in the public interest to license this invention as New England Compounding Pharmacy, Inc., submitted a complete and sufficient application for a license. The prospective exclusive license will be royalty-bearing and will comply with the terms and conditions of 35 U.S.C. 209 and 37 CFR 404.7. The prospective exclusive license may be granted unless, within fifteen (15) days from the date of this published Notice, the Department of Veterans Affairs, Office of Research and Development receives written evidence and argument which establishes that the grant of the license would not be consistent with the requirements of 35 U.S.C. 209 and 37 CFR 404.7.

Approved: March 17, 2006.
Gordon H. Mansfield,
Deputy Secretary of Veterans Affairs.

[FR Doc. E6-4326 Filed 3-24-06; 8:45 am]

BILLING CODE 8320-01-P